DEPARTMENT OF THE TREASURY

Submission for OMB Review; Comment Request

September 26, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 2, 2005 to be assured of consideration.

United States Mint

OMB Number: 1505-0195.

Type of Review: Revision.

Title: Race and National Origin Identification.

Form: Department of Treasury form TDF 35-08.

Description: This form will be used to collect applicant race and national origin information electronically. The data will be used to help Treasury Bureaus identify barriers to selection and determine the demographics of the overall applicant pool.

Respondents: Individuals and households.

Estimated Number of Respondents: 160,000.

Estimated Total Reporting Burden: 8,000 hours.

Clearance Officer: Tracey Orrison (202) 622-0814, Department of the Treasury, 1750 Pennsylvania Avenue, NW., Suite 13446, Washington, DC 20220.

OMB Reviewer: Alexander T. Hunt (202) 395-7316, Office of Management and Budget, Room 10235, New Executive Office Building, Washington, DC 20503.

Michael A. Robinson,
Treasury PRA Clearance Officer.

[FR Doc. 05-19668 Filed 9-30-05; 8:45 am]

BILLING CODE 4811-16-P